DEPARTMENT OF ENERGY

Federal Energy Regulatory Commission

Notice of FERC Staff Attendance at Southwest Power Pool Board of Directors/Members Committee Meeting and Southwest Power Pool Regional State Committee Meeting

October 16, 2007.

The Federal Energy Regulatory Commission hereby gives notice that members of its staff may attend the meetings of the Southwest Power Pool (SPP) Regional State Committee Board of Directors, SPP Members Committee and SPP Board of Directors as noted below. Their attendance is part of the Commission's ongoing outreach efforts.

SPP Regional State Committee Annual Meeting

October 29, 2007 (1 p.m.-5 p.m. CST), DoubleTree Hotel at Warren Place, 6110 South Yale Ave., Tulsa, OK 74136, 918-495-1000.

SPP Board of Directors/Members Committee and Annual Meeting of the Members

October 30, 2007 (8 a.m.-3 p.m. CST), DoubleTree Hotel at Warren Place, 6110 South Yale Ave., Tulsa, OK 74136, 918-495-1000.

The discussions may address matters at issue in the following proceedings:

Docket No. ER05-799, Southwest Power Pool, Inc.

Docket No. ER05-526, Southwest Power Pool, Inc.

Docket No. EL06-83, Southwest Power Pool, Inc.

Docket No. ER06-448, Southwest Power Pool, Inc.

Docket No. ER06-451, Southwest Power Pool, Inc.

Docket No. ER06-767, Southwest Power Pool, Inc.

Docket Nos. ER06-1485 and ER07-266, Xcel Energy Services, Inc.

Docket No. EL06-71, Associated Electric Cooperative, Inc. v. Southwest Power Pool.

Docket No. ER07-319, Southwest Power Pool, Inc.

Docket No. ER07-371, Southwest Power Pool, Inc.

Docket No. EL07-27, East Texas Electric Cooperative, Inc., et al. and Docket No. ER07-396, Southwest Power Pool, Inc.

Docket No. ER07-643, Southwest Power Pool, Inc.

Docket No. ER07-1099, Southwest Power Pool, Inc.

Docket No. ER07-1311, Southwest Power Pool, Inc.

Docket No. ER07-1319, Southwest Power Pool, Inc.

Docket No. ER07-1320, Southwest Power Pool, Inc.

Docket No. ER07-1248, Southwest Power Pool, Inc.

Docket No. ER07-1417, Midwest Independent System Operator, Inc.

Docket No. EL07-87, Xcel Energy Services Inc. v. Southwest Power Pool, Inc., John Deere Wind Energy.

These meetings are open to the public.

For more information, contact John Rogers, Office of Energy Markets and Reliability, Federal Energy Regulatory Commission at (202) 502-8564 or john.rogers@ferc.gov.

Kimberly D. Bose,
Secretary.

[FR Doc. E7-20872 Filed 10-23-07; 8:45 am]

BILLING CODE 6717-01-P